DEPARTMENT OF COMMERCE

International Trade Administration

Notice of Scope Rulings

AGENCY: Enforcement and Compliance, International Trade Administration, Department of Commerce.

DATES: Applicable September 25, 2019.

SUMMARY: The Department of Commerce (Commerce) hereby publishes a list of scope rulings and anti-circumvention determinations made during the period October 1, 2018 through December 31, 2018. We intend to publish future lists after the close of the next calendar quarter.

FOR FURTHER INFORMATION CONTACT: Brenda E. Brown, AD/CVD Operations, Customs Liaison Unit, Enforcement and Compliance, International Trade Administration, U.S. Department of Commerce, 1401 Constitution Avenue NW, Washington, DC 20230; telephone: 202-482-4735.

SUPPLEMENTARY INFORMATION:

Background

Commerce regulations provide that it will publish in the Federal Register a list of scope rulings on a quarterly basis.¹ Our most recent notification of scope rulings was published on August 27, 2019.² This current notice covers all scope rulings and anti-circumvention determinations made by Enforcement and Compliance between October 1, 2018 and December 31, 2018.

¹ See 19 CFR 351.225(o).

² See Notice of Scope Rulings, 84 FR 44848 (August 27, 2019).

Scope Rulings Made October 1, 2018 Through December 31, 2018

People's Republic of China (China)

A-570-967 and C-570-968: Aluminum Extrusions From China

Requestors: Columbia Aluminum Products, LLC; MJB Wood Group, Inc.; Worldwide Door Components, Inc.; the requestors' door thresholds are included within the scope of the antidumping duty (AD) and countervailing duty (CVD) orders on aluminum extrusions from China; December 19, 2018.

A-570-814: Carbon Steel Butt-Weld Pipe Fittings From China

Requestor: SIGMA Corporation; the SAFELET and UNILET fire-protection weld outlets it imports from China are not subject to AD order on carbon steel butt-weld pipe from China because neither the “fish mouth” opening nor the threaded end of SIGMA's fire-protection weld outlets can be welded end-to-end to the circular, single-plane, beveled end of a pipe or another fitting; December 11, 2018

A-570-814: Carbon Steel Butt Weld Pipe Fittings From China

Requestor: Smith-Cooper International; threaded and grooved (cooplet) weld outlets are covered by the scope of the AD order on carbon steel butt weld pipe fittings from China because the scope language can be reasonably interpreted to include cooplet weld outlets, and the descriptions of the merchandise support a conclusion that the cooplet weld outlets are subject merchandise; December 20, 2018.

A-570-881: Certain Malleable Cast Iron Pipe Fittings From China

Requestor: MCC Holdings dba Crane (Crane); stainless steel castings produced by Anhui Yingliu Electromechanical and imported by Crane are outside the scope of AD order on certain malleable cast iron pipe fittings from China because they are composed of stainless steel and not malleable cast iron. Specifically, the castings which Crane imports are stainless steel castings made to ASTM A351 Grades CF8 and CF8M standards, which specify a maximum carbon content of 0.08 percent. Furthermore, Commerce determined that cast pipe fittings made of stainless steel and not malleable cast iron, generally, are not within the scope of the AD order on certain malleable cast iron pipe fittings from China; November 1, 2018.

A-570-881: Certain Malleable Cast Iron Pipe Fittings From China

Requestor: Steel Electric Products Company, Inc. (SEPCO); Electrical conduit fittings imported by SEPCO (i.e., conduit bodies, conduit nipples, and conduit couplings and connectors), are not within the scope of the AD order on malleable cast iron pipe fittings from China because they are designed and manufactured to conform to entirely different industry codes and standards and are not suitable for use in oil, gas, or sprinkler applications; December 20, 2018.

A-570-910 and C-570-911: Circular Welded Carbon Quality Steel Pipe From China

Requestor: NEXTracker Inc.; Preliminarily found that NT Torque Tubes are not covered by the scope of the AD and CVD orders on circular welded carbon quality steel pipe from China because they are excluded mechanical tubing; October 30, 2018 (Preliminary Decision).

A-570-900: Diamond Sawblades and Parts Thereof From China

Requestor: Robert Bosch Tool Corporation (Bosch); finished diamond sawblade (SM540 Diamond Wheel) produced in China and included in Bosch's Dremel Saw-Max SM-20 power tool as an accessory is within the scope of the AD order on diamond sawblades from China; November 29, 2018.

A-570-033: Large Residential Washers From China

Requestor: Army & Air Force Exchange Service; the MIDEA washing machine model MAD160S2801 is not covered by the scope of the AD order on large residential washers from China because the scope of the order specifically excludes this type of washer, i.e., washers that meet all of the following conditions: (1) A vertical rotational axis; (2) top loading; (3) a drive train consisting of (a) a permanent split capacitor motor, (b) a belt drive, and (c) a flat wrap spring clutch; October 18, 2018

A-570-875: Non-Malleable Cast Iron Pipe Fittings From China

Requestor: MCC Holdings dba Crane Resistoflex (Crane); ductile iron lap joint flanges with inside diameters less than six inches (i.e., product numbers C11150DI-016-1, C11150DI-024-1, C11150DI-032-1, C11150DI-048-1, and C11150DI-064-1), that Crane imports are within the scope of the AD order on non-malleable cast iron pipe fittings from China because they have inside diameters that fall within the range of the scope of the order; while ductile iron lap joint flanges with inside diameters greater than six inches (i.e., product numbers C11150DI-096-1, C11150DI-128-1, C11150DI-160-1, and C11150DI-192-1), that Crane imports are outside the scope of the order because they have inside diameters that fall outside the range of scope of the AD order on non-malleable cast iron pipe fittings from China; November 19, 2018.

A-570-826: Paper Clips From China

Requestor: ACCO Brands USA LLC (ACCO); the five types of butterfly clips imported by ACCO under the following product codes/skus are not within the scope of the AD order on paper clips from China: A70726108B, A7072610, A7072620B, A7072620, and A7072643, because based on a plain reading of the language of the scope of the order, ACCO's butterfly clips are excluded from the scope of the AD order on paper clips from China; October 4, 2018.

A-570-890: Wooden Bedroom Furniture From China

Requestor: Homewerks Worldwide, LLC; certain medicine cabinets; linen towers; space savers; and hampers are not covered by the AD order on wooden bedroom furniture from China because they are not bedroom furniture; December 19, 2018.

Anti-Circumvention Determinations Made October 1, 2018 Through December 31, 2018: China

A-570-928: Uncovered Innersprings From China

Innersprings exported from Macau to the United States, which were assembled or completed in Macau by Macao Commercial and Industrial Spring Mattress Manufacturer (Macao Commercial) and the other companies that are part of the Macao Commercial Group, used materials and/or components from China and are circumventing the AD order; December 21, 2018.

Notification to Interested Parties

Interested parties are invited to comment on the completeness of this list of completed scope inquiries and anti-circumvention determinations made during the period October 1, 2018 through December 31, 2018. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: September 19, 2019.
Scot T. Fullerton,
Director, Office VI for Antidumping and Countervailing Duty Operations.

[FR Doc. 2019-20817 Filed 9-24-19; 8:45 am]

BILLING CODE 3510-DS-P